DEPARTMENT OF ENERGY

10 CFR Chs. II, III, and X

48 CFR Ch. 9

Unified Agenda of Federal Regulatory and Deregulatory Actions

AGENCY: Department of Energy.

ACTION: Semi-annual regulatory agenda.

SUMMARY: The Department of Energy (DOE) has prepared and is making available its portion of the semi-annual Unified Agenda of Federal Regulatory and Deregulatory Actions (Agenda) pursuant to Executive Order 12866, “Regulatory Planning and Review,” and the Regulatory Flexibility Act.

SUPPLEMENTARY INFORMATION: The Agenda is a government-wide compilation of upcoming and ongoing regulatory activity, including a brief description of each rulemaking and a timetable for action. The Agenda also includes a list of regulatory actions completed since publication of the last Agenda. The Department of Energy's portion of the Agenda includes regulatory actions called for by the Energy Policy and Conservation Act of 1975, as amended, and programmatic needs of DOE offices.

The internet is the basic means for disseminating the Agenda and providing users the ability to obtain information from the Agenda database. DOE's Spring 2022 Agenda can be accessed online by going to www.reginfo.gov.

DOE's regulatory flexibility agenda is made up of rulemakings setting energy efficiency standards and requirements applicable to DOE sites.

Samuel Walsh,
General Counsel.

Energy Efficiency and Renewable Energy—Proposed Rule Stage
Sequence No. | Title | Regulation Identifier No.
76 | Energy Conservation Standards for Residential Conventional Cooking Products | 1904-AD15
77 | Energy Conservation Standards for Residential Non-Weatherized Gas Furnaces and Mobile Home Gas Furnaces | 1904-AD20
78 | Energy Conservation Standards for Commercial Water Heating-Equipment | 1904-AD34

Energy Efficiency and Renewable Energy—Final Rule Stage
Sequence No. | Title | Regulation Identifier No.
79 | Energy Conservation Standards for General Service Lamps | 1904-AD09
80 | Test Procedure for Single-Package Vertical Air Conditioners and Heat Pumps | 1904-AD94
81 | Test Procedures for Dehumidifying Direct-Expansion Dedicated Outdoor Air Systems | 1904-AE46
82 | Test Procedure for Cooking Tops | 1904-AF18

Energy Efficiency and Renewable Energy—Completed Actions
Sequence No. | Title | Regulation Identifier No.
83 | Energy Conservation Standards for Manufactured Housing | 1904-AC11

DEPARTMENT OF ENERGY (DOE)

Energy Efficiency and Renewable Energy (EE)

Proposed Rule Stage

76. Energy Conservation Standards for Residential Conventional Cooking Products [1904-AD15]

Legal Authority: 42 U.S.C. 6295(m)(1); 42 U.S.C. 6292(a)(10); 42 U.S.C. 6295(h)

Abstract: The Energy Policy and Conservation Act (EPCA), as amended by Energy Independence and Security Act of 2007 (EISA), prescribes energy conservation standards for various consumer products, including consumer conventional cooking products. EPCA also requires the U.S. Department of Energy (DOE) to periodically determine whether more stringent standards would be technologically feasible and economically justified and would result in a significant conservation of energy. In this rulemaking, DOE is considering whether to update energy conservation standards for consumer conventional cooking products in order to fulfill its statutory deadline for amending energy conservation standards for cooking products under 42 U.S.C. 6295(m)(1). In 2020, DOE tentatively determined that amended energy conservation standards for consumer conventional cooking products would not be economically justified and would not result in significant energy savings. DOE re-evaluates this determination of whether amending standards for cooking products would result in significant energy savings.

Timetable:

Action | Date | FR Cite
Request for Information (RFI) | 02/12/14 | 79 FR 8337
RFI Comment Period End | 03/14/14 |
RFI Comment Period Extended | 03/03/14 | 79 FR 11714
RFI Comment Period Extended End | 04/14/14 |
NPRM and Public Meeting | 06/10/15 | 80 FR 33030
NPRM Comment Period Extended | 07/30/15 | 80 FR 45452
NPRM Comment Period Extended End | 09/09/15 |
Supplemental NPRM | 09/02/16 | 81 FR 60784
SNPRM Comment Period Extended | 09/30/16 | 81 FR 67219
SNPRM Comment Period Extended End | 11/02/16 |
Notice of Proposed Determination and Request for Comment | 12/14/20 | 85 FR 80982
Notice of Proposed Determination Comment Period End | 03/01/21 |
Second SNPRM | 01/00/23 |

Regulatory Flexibility Analysis Required: Yes.

Agency Contact: Stephanie Johnson, General Engineer, Department of Energy, Energy Efficiency and Renewable Energy, 1000 Independence Avenue SW, Building Technologies Office, EE5B, Washington, DC 20585, Phone: 202 287-1943, Email: stephanie.johnson@ee.doe.gov.

RIN: 1904-AD15

77. Energy Conservation Standards for Residential Non-Weatherized Gas Furnaces and Mobile Home Gas Furnaces [1904-AD20]

Legal Authority: 42 U.S.C. 6295(f)(4)(C); 42 U.S.C. 6295(m)(1); 42 U.S.C. 6295(gg)(3)

Abstract: The Energy Policy and Conservation Act, as amended, (EPCA) prescribes energy conservation standards for various consumer products and certain commercial and industrial equipment, including residential furnaces. EPCA also requires the U.S. Department of Energy (DOE) to determine whether more-stringent amended standards would be technologically feasible and economically justified and would save a significant amount of energy. DOE is considering amendments to its energy conservation standards for residential non-weatherized gas furnaces and mobile home gas furnaces pursuant to a court-ordered remand of DOE's 2011 rulemaking for these products.

Timetable:

Action | Date | FR Cite
Notice of Public Meeting | 10/30/14 | 79 FR 64517
NPRM and Notice of Public Meeting | 03/12/15 | 80 FR 13120
NPRM Comment Period Extended | 05/20/15 | 80 FR 28851
NPRM Comment Period Extended End | 07/10/15 |
Notice of Data Availability (NODA) | 09/14/15 | 80 FR 55038
NODA Comment Period End | 10/14/15 |
NODA Comment Period Reopened | 10/23/15 | 80 FR 64370
NODA Comment Period Reopened End | 11/06/15 |
Supplemental NPRM and Notice of Public Meeting | 09/23/16 | 81 FR 65720
Supplemental NPRM Comment Period End | 11/22/16 |
SNPRM Comment Period Reopened | 12/05/16 | 81 FR 87493
SNPRM Comment Period End | 01/06/17 |
Notice of NPRM Withdrawal | 01/15/21 | 86 FR 3873
NPRM | 06/00/22 |

Regulatory Flexibility Analysis Required: Yes.

Agency Contact: Julia Hegarty, Department of Energy, 1000 Independence Avenue SW, Washington, DC 20585, Phone: 240 597-6737, Email: julia.hegarty@ee.doe.gov

RIN: 1904-AD20

78. Energy Conservation Standards for Commercial Water Heating-Equipment [1904-AD34]

Legal Authority: 42 U.S.C. 6313(a)(6)(C)(i) and (vi)

Abstract: Once completed, this rulemaking will fulfill the U.S. Department of Energy's (DOE) statutory obligation under the Energy Policy and Conservation Act, as amended, (EPCA) to either propose amended energy conservation standards for commercial water heaters and hot water supply boilers (CWHs), or determine that the existing standards do not need to be amended. (Unfired hot water storage tanks and commercial heat pump water heaters are being considered in a separate rulemaking.) DOE must determine whether national standards more stringent than those that are currently in place would result in a significant additional amount of energy savings and whether such amended national standards would be technologically feasible and economically justified. DOE proposes to amend the standards for certain classes of CWH equipment for which DOE has tentatively determined there is clear and convincing evidence to support more-stringent standards. Additionally, DOE is proposing to codify standards for electric instantaneous CWH equipment from EPCA into the Code of Federal Regulations.

Timetable:

Action | Date | FR Cite
Request for Information (RFI) | 10/21/14 | 79 FR 62899
RFI Comment Period End | 11/20/14 |
NPRM | 05/31/16 | 81 FR 34440
NPRM Comment Period End | 08/01/16 |
NPRM Comment Period Reopened | 08/05/16 | 81 FR 51812
NPRM Comment Period Reopened End | 08/30/16 |
Notice of Data Availability (NODA) | 12/23/16 | 81 FR 94234
NODA Comment Period End | 01/09/17 |
Notice of NPRM Withdrawal | 01/15/21 | 86 FR 3873
NPRM | 05/19/22 | 87 FR 30610
NPRM Comment Period End | 07/18/22 |

Regulatory Flexibility Analysis Required: Yes.

Agency Contact: Julia Hegarty, Department of Energy, 1000 Independence Avenue SW, Washington, DC 20585, Phone: 240 597-6737, Email: julia.hegarty@ee.doe.gov.

RIN: 1904-AD34

DEPARTMENT OF ENERGY (DOE)

Energy Efficiency and Renewable Energy (EE)

Final Rule Stage

79. Energy Conservation Standards for General Service Lamps [1904-AD09]

Legal Authority: 42 U.S.C. 6295(i)(6)(A); 42 U.S.C. 6295(i)(6)(B)

Abstract: The U.S. Department of Energy (DOE) is conducting a rulemaking to determine whether to amend or adopt standards for general service lamps (GSLs). This rulemaking is being undertaken pursuant to DOE's authority under the Energy Policy and Conservation Act, as amended and satisfies a term of DOE's settlement agreement with the National Electrical Manufacturers Association to issue a supplemental notice of proposed rulemaking regarding whether to amend or adopt standards for general service light-emitting diode lamps and possibly compact fluorescent lamps, which are both types of GSLs.

Timetable:

Action | Date | FR Cite
Framework Document Availability; Notice of Public Meeting | 12/09/13 | 78 FR 73737
Framework Document Comment Period End | 01/23/14 |
Framework Document Comment Period Extended | 01/23/14 | 79 FR 3742
Framework Document Comment Period Extended End | 02/07/14 |
Preliminary Analysis and Notice of Public Meeting | 12/11/14 | 79 FR 73503
Preliminary Analysis Comment Period Extended | 01/30/15 | 80 FR 5052
Preliminary Analysis Comment Period Extended End | 02/23/15 |
Notice of Public Meeting; Webinar | 03/15/16 | 81 FR 13763
NPRM | 03/17/16 | 81 FR 14528
NPRM Comment Period End | 05/16/16 |
Notice of Public Meeting; Webinar | 10/05/16 | 81 FR 69009
Proposed Definition and Data Availability | 10/18/16 | 81 FR 71794
Proposed Definition and Data Availability Comment Period End | 11/08/16 |
Final Rule Adopting a Definition for GSL | 01/19/17 | 82 FR 7276
Final Rule Adopting a Definition for GSL Effective | 01/01/20 |
Final Rule Adopting a Definition for GSL Including IRL | 01/19/17 | 82 FR 7322
Final Rule Adopting a Definition for GSL Including IRL Effective | 01/01/20 |
Final Rule; Withdrawal of Definition for GSL (Reported as 1904-AE26) | 09/05/19 | 84 FR 46661
Final Rule; Withdrawal of Definition for GSL Effective | 10/07/19 |
Final Rule Adopting a Definition for GSL | 05/09/22 | 87 FR 27461
Final Rule Adopting a Definition for GSL Effective | 07/08/22 |
Supplemental NPRM | 12/00/22 |

Regulatory Flexibility Analysis Required: Yes.

Agency Contact: Stephanie Johnson, General Engineer, Department of Energy, Energy Efficiency and Renewable Energy, 1000 Independence Avenue SW, Building Technologies Office, EE5B, Washington, DC 20585, Phone: 202 287-1943, Email: stephanie.johnson@ee.doe.gov.

RIN: 1904-AD09

80. Test Procedure for Single-Package Vertical Air Conditioners and Heat Pumps [1904-AD94]

Legal Authority: 42 U.S.C. 6314(a)(1)(A)

Abstract: Consistent with the requirements under the Energy Policy and Conservation Act (EPCA), as amended, the U.S. Department of Energy (DOE) is examining whether to amend the current test procedure for single-package vertical air conditioners and heat pumps found at 10 CFR 431.96. As a result of this proceeding, DOE may propose and amend the test procedures for this equipment, or issue a determination that no amendments to the current test procedures are required. Once completed, this rulemaking will fulfill DOE's statutory obligation to either propose an amended test procedure for this equipment or determine that the existing test procedure does not need to be amended.

Timetable:

Action | Date | FR Cite
Request for Information (RFI) | 07/20/18 | 83 FR 34499
RFI Comment Period End | 09/04/18 |
NPRM | 01/14/22 | 87 FR 2490
NPRM Comment Period End | 03/15/22 |
Final Action | 09/00/22 |

Regulatory Flexibility Analysis Required: Yes.

Agency Contact: Catherine Rivest, General Engineer, Department of Energy, Energy Efficiency and Renewable Energy, 1000 Independence Avenue SW, Building Technologies Office, EE-5B, Washington, DC 20585, Phone: 202 586-7335, Email: catherine.rivest@ee.doe.gov.

RIN: 1904-AD94

81. Test Procedures for Dehumidifying Direct-Expansion Dedicated Outdoor Air Systems [1904-AE46]

Legal Authority: 42 U.S.C. 6314(a)(4)

Abstract: Consistent with the requirements under the Energy Policy and Conservation Act (EPCA), as amended, the U.S. Department of Energy (DOE) is seeking to establish a Federal test procedure for dehumidifying direct-expansion dedicated outdoor air systems (DDX-DOASes) at 10 CFR 431.96. For covered equipment addressed in the American Society of Heating, Refrigerating and Air-Conditioning Engineers (ASHRAE) Standard 90.1, the DOE test procedure must be based upon the generally accepted industry testing procedure referenced in that industry consensus standard (42 U.S.C. 6314(a)(4)(A)). The statute further requires that each time the referenced industry test procedure is updated, DOE must amend the Federal test procedure to be consistent with the amended industry test procedure, unless there is clear and convincing evidence that the update would not be representative of an average use cycle or would be unduly burdensome to conduct (42 U.S.C. 6314(a)(4)(B)). Independent of that test procedure review obligation, EPCA also includes a 7-year-look-back review provision for covered commercial and industrial equipment that requires DOE to conduct an evaluation of each class of covered equipment to determine whether amended test procedures would more accurately or fully comply with the requirements that the Federal test procedure be representative of an average use cycle and not be unduly burdensome to conduct (42 U.S.C. 6314(a)(1)). In this test procedure rulemaking for DDX-DOASes, DOE is acting under its authority at 42 U.S.C. 6314(a)(4), and accordingly, it will propose and adopt a new Federal test procedure for this equipment. (The NOPR for this rule was mistakenly published in the Federal Register as RIN 1904-AD93 on July 7, 2021).

Timetable:

Action | Date | FR Cite
Request for Information (RFI) | 07/25/17 | 82 FR 34427
RFI Comment Period Ends | 08/24/17
NPRM (Incorrectly Published as 1904-AD93) | 07/07/21 | 86 FR 36018
NPRM Comment Period End | 09/07/21
Supplemental NPRM | 12/23/21 | 86 FR 72874
SNPRM Comment Period End | 01/24/22
Final Action | 06/00/22

Regulatory Flexibility Analysis Required: Yes.

Agency Contact: Catherine Rivest, General Engineer, Department of Energy, Energy Efficiency and Renewable Energy, 1000 Independence Avenue SW, Building Technologies Office, EE-5B, Washington, DC 20585, Phone: 202 586-7335, Email: catherine.rivest@ee.doe.gov.

RIN: 1904-AE46

82. Test Procedure for Cooking Tops [1904-AF18]

Legal Authority: 42 U.S.C. 6293(b)(1); 42 U.S.C. 6292(a)(10)

Abstract: The U.S. Department of Energy (DOE) is required to review its test procedures for cooking products, including conventional cooking tops, once every 7 years under the Energy Policy and Conservation Act (EPCA), as amended. In this rulemaking, DOE is proposing to establish a test procedure for conventional cooking tops, a category of cooking products, that would replace the procedure that DOE withdrew on August 18, 2020. Once completed, this rulemaking will fulfill DOE's statutory obligation to either propose new test procedures for this product or determine that new test procedures are not required. This review will also satisfy the review requirement under Executive Order 13990, “Protecting Public Health and the Environment and Restoring Science to Tackle the Climate Crisis,” 86 FR 7037 (January 25, 2021).

Timetable:

Action | Date | FR Cite
NPRM | 11/04/21 | 86 FR 60974
NPRM Comment Period End | 01/03/22
NPRM Comment Period Extended and Notification of Data Availability | 12/16/21 | 86 FR 71406
NPRM Comment Period Extended End | 01/18/22
Second NPRM Comment Period Extended | 01/18/22 | 87 FR 2559
Second NPRM Comment Period Extended End | 02/17/22
Final Action | 07/00/22

Regulatory Flexibility Analysis Required: Yes.

Agency Contact: Stephanie Johnson, General Engineer, Department of Energy, Energy Efficiency and Renewable Energy, 1000 Independence Avenue SW, Building Technologies Office, EE5B, Washington, DC 20585, Phone: 202 287-1943, Email: stephanie.johnson@ee.doe.gov.

RIN: 1904-AF18

DEPARTMENT OF ENERGY (DOE)

Energy Efficiency and Renewable Energy (EE)

Completed Actions

83. Energy Conservation Standards for Manufactured Housing [1904-AC11]

Legal Authority: 42 U.S.C. 17071

Abstract: The U.S. Department of Energy (DOE) has issued a final rule to address the requirement in section 413 of the Energy Independence and Security Act of 2007 (EISA) that DOE establish energy conservation standards for manufactured housing. See 42 U.S.C. 1707(a)(1). DOE is directed by EISA to base the energy efficiency standards on the most recent version of the International Energy Conservation Code (IECC), except where DOE finds that the IECC is not cost effective, or a more stringent standard would be more cost effective, based on the impact of the IECC on the purchase price of manufactured housing and on total life-cycle construction and operating costs. The established standards provide a set of “tiered” standards based on the size of the manufactured home (single-section or multi-section) that would apply the 2021 IECC-based standards to manufactured homes, with less stringent building thermal envelope requirements for single-section manufactured homes.

Completed:

Reason | Date | FR Cite
SNPRM Comment Period End | 10/25/21
NODA and Supplemental NPRM Comment Period Reopening | 10/26/21 | 86 FR 59042
NODA and Supplemental NPRM Comment Period Reopening End | 11/26/21
NODA Comment Period Reopened | 01/14/22 | 87 FR 2359
NODA Comment Period Reopened End | 02/28/22
Record of Decision | 05/31/22 | 87 FR 32405
Final Rule | 05/31/22 | 87 FR 32728
Final Rule Effective | 08/01/22

Regulatory Flexibility Analysis Required: Yes.

Agency Contact: John Cymbalsky, Phone: 202 287-1692, Email: john.cymbalsky@ee.doe.gov.

RIN: 1904-AC11

[FR Doc. 2022-14602 Filed 8-5-22; 8:45 am]

BILLING CODE 6450-01-P